NATIONAL CREDIT UNION ADMINISTRATION

Agency Information Collection Activities: Submission to OMB for Review; Comment Request

AGENCY: National Credit Union Administration (NCUA).

ACTION: Request for comment.

SUMMARY: The NCUA is submitting the following new information collection to the Office of Management and Budget (OMB) for review and clearance under the Paperwork Reduction Act of 1995 (Pub. L. 104-13, 44 U.S.C. Chapter 35). This information collection is published to obtain comments from the public.

DATES: Comments will be accepted until July 11, 2001.

ADDRESSES: Interested parties are invited to submit written comments to NCUA

Clearance Officer: Mr. James L. Baylen, (703) 518-6411, National Credit Union Administration, 1775 Duke Street, Alexandria, VA 22314-3428, Fax No. 703-518-6433, E-mail: jbaylen@ncua.gov.

OMB Reviewer: Alexander T. Hunt, (202) 395-7860, Office of Management and Budget, Room 10226, New Executive Office Building, Washington, DC 20503.

FOR FURTHER INFORMATION CONTACT: Copies of the information collection requests, with applicable supporting documentation, may be obtained by calling the: NCUA Clearance Officer, James L. Baylen, (703) 518-6411. It is also available on the following website: www.NCUA.gov.

SUPPLEMENTARY INFORMATION: Proposal for the following collection of information:

OMB Number: 3133-0101.

Form Number: N/A.

Type of Review: Reinstatement of a previously approved collection without change.

Title: 12 CFR Parts 723.5—Develop written loan policies—and 723.11—Provide waiver requests.

Description: The general purpose of the requirements imposed by the rule is to ensure that loans are made, documented, and accounted for properly and for the ultimate protection of the National Credit Union Share Insurance Fund.

Respondents: Federally insured credit unions that make member business loans.

Estimated No. of Respondents/Record keepers: 50.

Estimated Burden Hours Per Response: 2 hours.

Frequency of Response: Other. Information disclosures required are made on an on-going basis.

Estimated Total Annual Burden Hours: 100.

Estimated Total Annual Cost: N/A.

By the National Credit Union Administration Board on June 5, 2001.
Becky Baker,
Secretary of the Board.

[FR Doc. 01-14654 Filed 6-8-01; 8:45 am]

BILLING CODE 7535-01-P